DEPARTMENT OF COMMERCE

National Oceanic and Atmospheric Administration

[RTID 0648-XW020]

General Advisory Committee to the U.S. Section to the Inter-American Tropical Tuna Commission and Scientific Advisory Subcommittee to the General Advisory Committee; Meeting Announcement

AGENCY: National Marine Fisheries Service (NMFS), National Oceanic and Atmospheric Administration (NOAA), Commerce.

ACTION: Notice of public meeting.

SUMMARY: NMFS announces a public meeting of the General Advisory Committee (GAC) to the U.S. Section to the Inter-American Tropical Tuna Commission (IATTC) on June 18, 2020, and a public meeting of the Scientific Advisory Subcommittee (SAS) to the GAC on June 17, 2020. The meeting topics are described under the SUPPLEMENTARY INFORMATION section of this notice.

DATES: The meeting of the SAS will be held on June 17, 2020, from 10 a.m. to 5 p.m. PDT (or until business is concluded). The meeting of the GAC will be held on June 18, 2020, from 8:30 a.m. to 5 p.m. PDT (or until business is concluded).

ADDRESSES: The SAS and GAC meetings will be held in the Pacific Conference Room (Room 300) at NMFS, Southwest Fisheries Science Center, 8901 La Jolla Shores Drive, La Jolla, California 92037-1508. Please notify William Stahnke (see FOR FURTHER INFORMATION CONTACT) by May 29, 2020, if you plan to attend either or both meetings in person or remotely. The meetings will be accessible by webinar and instructions will be emailed to meeting participants.

FOR FURTHER INFORMATION CONTACT: William Stahnke, West Coast Region, NMFS, at William.Stahnke@noaa.gov, or at (562) 980-4088.

SUPPLEMENTARY INFORMATION: In accordance with the Tuna Conventions Act (16 U.S.C. 951 et seq.), the U.S. Department of Commerce, in consultation with the Department of State (the State Department), appoints a GAC to the U.S. Section to the IATTC, and a SAS that advises the GAC. The U.S. Section consists of the four U.S. Commissioners to the IATTC and representatives of the State Department, NOAA, Department of Commerce, other U.S. Government agencies, and stakeholders. The GAC advises the U.S. Section with respect to U.S. participation in the work of the IATTC, focusing on the development of U.S. policies, positions, and negotiating tactics. The purpose of the SAS is to advise the GAC on scientific matters. NMFS West Coast Region staff provide administrative support for the GAC and SAS. The meetings of the GAC and SAS are open to the public, unless in executive session. The time and manner of public comment will be at the discretion of the Chairs for the GAC and SAS.

The 95th meeting of the IATTC, the 41st Meeting of the Parties to the Agreement on the International Dolphin Conservation Program (AIDCP), and IATTC and AIDCP working group meetings are scheduled to be held from August 3 to August 15, 2020, in La Jolla, California. For more information on these meetings, please visit the IATTC's website: https://www.iattc.org/MeetingsENG.htm.

GAC and SAS Meeting Topics

The SAS meeting agenda will include, but is not limited to, the following topics:

(1) Outcomes of the 2020 meeting of the Scientific Advisory Committee (SAC) to the IATTC (e.g., stock status updates for tuna, tuna-like species, and other species caught in association with those fisheries in the eastern Pacific Ocean);

(2) Evaluation of the IATTC staff's recommended conservation measures for 2020;

(3) Issues related to non-target species, such as sharks, seabirds, sea turtles;

(4) Evaluation of U.S. proposals for the 95th meeting of the IATTC and proposals from other IATTC members; and

(5) Other issues as they arise.

The GAC meeting agenda will include, but is not limited to, the following topics:

(1) Outcomes of the 2020 meeting of the SAC to the IATTC (e.g., stock status updates for tuna, tuna-like species, and other species caught in association with those fisheries in the eastern Pacific Ocean);

(2) Issues related to non-target species, such as sharks, seabirds, sea turtles;

(3) Recommendations and evaluations by the SAS;

(4) Recommendations to the U.S. Section on issues that may arise at the 95th meeting of the IATTC, including the IATTC staff's recommended conservation measures, U.S. proposals, and proposals from other IATTC members; and

(5) Other issues as they arise.

Special Accommodations

The meeting location is physically accessible to people with disabilities. Requests for sign language interpretation or other auxiliary aids should be directed to William Stahnke (see FOR FURTHER INFORMATION CONTACT) by May 29, 2020.

Authority: 16 U.S.C. 951 et seq.

Dated: March 2, 2020.
Karyl K. Brewster-Geisz,
Acting Director, Office of Sustainable Fisheries, National Marine Fisheries Service.

[FR Doc. 2020-04492 Filed 3-4-20; 8:45 am]

BILLING CODE 3510-22-P